Proclamation 8492 of April 1, 2010

National Sexual Assault Awareness Month, 2010

By the President of the United States of America

A Proclamation

Every day, women, men, and children across America suffer the pain and trauma of sexual assault. From verbal harassment and intimidation to molestation and rape, this crime occurs far too frequently, goes unreported far too often, and leaves long-lasting physical and emotional scars. During National Sexual Assault Awareness Month, we recommit ourselves not only to lifting the veil of secrecy and shame surrounding sexual violence, but also to raising awareness, expanding support for victims, and strengthening our response.

Sexual violence is an affront to our national conscience, one which we cannot ignore. It disproportionately affects women—an estimated one in six American women will experience an attempted or completed rape at some point in her life. Too many men and boys are also affected.

These facts are deeply troubling, and yet, sexual violence affects Americans of all ages, backgrounds, and circumstances. Alarming rates of sexual violence occur among young women attending college, and frequently, alcohol or drugs are used to incapacitate the victim. Among people with disabilities, isolation may lead to repeated assaults and an inability to seek and locate help. Native American women are more than twice as likely to be sexually assaulted compared with the general population. As a Nation, we share the responsibility for protecting each other from sexual assault, supporting victims when it does occur, and bringing perpetrators to justice.

We can lead this charge by confronting and changing insensitive attitudes wherever they persist. Survivors too often suffer in silence because they fear further injury, are unwilling to experience further humiliation, or lack faith in the criminal justice system. This feeling of isolation, often compounded with suicidal feelings, depression, and post-traumatic stress disorder, only exacerbate victims’ sense of hopelessness. No one should face this trauma alone, and as families, friends, and mentors, we can empower victims to seek the assistance they need.

At the Federal, State, local, and tribal level, we must work to provide necessary resources to victims of every circumstance, including medical attention, mental health services, relocation and housing assistance, and advocacy during legal proceedings. Under Vice President Biden’s leadership, the 2005 reauthorization of the Violence Against Women Act included the Sexual Assault Services Program, the first-ever funding stream dedicated solely to providing direct services to victims of sexual assault. To further combat sexual violence, my 2011 Budget doubles funding for this program. Through the Justice Department and the Centers for Disease Control, we are funding prevention and awareness campaigns as well as grants for campus services to address sexual assault on college campuses. The Justice Department has also increased funding and resources to combat violence against Native American women.

As we continue to confront this crime, let us reaffirm this month our dedication to take action in our communities and stop abuse before it starts. Together, we can increase awareness about sexual violence, decrease its frequency, punish offenders, help victims, and heal lives.

NOW, THEREFORE, I, BARACK OBAMA, President of the United States of America, by virtue of the authority vested in me by the Constitution and the laws of the United States, do hereby proclaim April 2010 as National Sexual Assault Awareness Month. I urge all Americans to reach out to victims, learn more about this crime, and speak out against it.

IN WITNESS WHEREOF, I have hereunto set my hand this first day of April, in the year of our Lord two thousand ten, and of the Independence of the United States of America the two hundred and thirty-fourth.

[FR Doc. 2010-8028

Filed 4-6-10; 8:45 am]

Billing code 3195-W0-P